DEPARTMENT OF HEALTH AND HUMAN SERVICES

Food and Drug Administration

Advisory Committee; Renewals

AGENCY: Food and Drug Administration, HHS.

ACTION: Notice.

SUMMARY: The Food and Drug Administration (FDA) is announcing the renewal of certain FDA advisory committees by the Deputy Commissioner of Food and Drugs (the Deputy Commissioner). The Deputy Commissioner has determined that it is in the public interest to renew the charters of the committees listed in the following table for an additional 2 years beyond charter expiration date. The new charters will be in effect until the dates of expiration listed in the following table. This notice is issued under the Federal Advisory Committee Act of October 6, 1972 (Public Law 92-463 (5 U.S.C. app. 2)).

DATES: Authority for these committees will expire on the dates indicated in the following table unless the Deputy Commissioner formally determines that renewal is in the public interest.

Name of committee | Date of ­expiration
Medical Imaging Drugs Advisory Committee | February 28, 2004
Gastrointestinal Drugs Advisory Committee | March 3, 2004
Advisory Committee for Reproductive Health Drugs | March 23, 2004
Arthritis Advisory ­Committee | April 5, 2004
Veterinary Medicine ­Advisory Committee | April 24, 2004
Anesthetic and Life ­Support Drugs ­Advisory Committee | May 1, 2004
Blood Products Advisory Committee | May 13, 2004
Pulmonary-Allergy Drugs Advisory ­Committee | May 30, 2004
Drug Safety and Risk Management Advisory Committee (formerly Drug Abuse Advisory Committee) | May 31, 2004
Science Advisory Board/NCTR | June 2, 2004
Peripheral and Central Nervous System Drugs Advisory ­Committee | June 4, 2004
Psychopharmacologic Drugs Advisory ­Committee | June 4, 2004
Transmissible Spongiform Encephalopathies ­Advisory Committee | June 9, 2004

FOR FURTHER INFORMATION CONTACT: Linda A. Sherman, Advisory Committee Oversight and Management Staff (HF-4), Food and Drug Administration, 5600 Fishers Lane, Rockville, MD 20857, 301-827-1220.

Dated: July 5, 2002.
William K. Hubbard,
Senior Associate Commissioner for Policy, Planning, and Legislation.

[FR Doc. 02-17478 Filed 7-10-02; 8:45 am]

BILLING CODE 4160-01-S